INTERNATIONAL TRADE COMMISSION

[Investigation No. 337-TA-1208]

Certain Electronic Devices, Including Computers, Tablet Computers, and Components and Modules Thereof; Notice of a Commission Determination Not To Review an Initial Determination Granting a Motion by Google, LLC To Intervene in the Investigation

AGENCY: U.S. International Trade Commission.

ACTION: Notice.

SUMMARY: Notice is hereby given that the U.S. International Trade Commission (“Commission”) has determined not to review an initial determination (“ID”) (Order No. 5) of the presiding administrative law judge (“ALJ”), granting a motion by Google, LLC of Mountain View, California (“Google”) to intervene in the investigation.

FOR FURTHER INFORMATION CONTACT: Panyin A. Hughes, Office of the General Counsel, U.S. International Trade Commission, 500 E Street, SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On August 10, 2020, the Commission instituted this investigation based on a complaint filed by Nokia Technologies Oy and Nokia Corporation both of Espoo, Finland (collectively, “Nokia”). 85 FR 48263-64 (Aug. 10, 2020). The complaint alleged violations of section 337 based on the importation into the United States, the sale for importation, or the sale within the United States after importation of certain electronic devices, including computers, tablet computers, and components and modules thereof by reason of infringement of certain claims of U.S. Patent Nos. 8,144,764; 7,532,808; 6,950,469; 7,724,818; and 8,583,706 (“the '706 patent”). Id. The Commission's notice of investigation named the following nine Lenovo entities as respondents: Lenovo (United States), Inc. of Morrisville, North Carolina; Lenovo Group Limited of Quarry Bay, Hong Kong; Lenovo (Beijing) Limited of Beijing, China; Lenovo (Shanghai) Electronics Technology Co. Ltd. of Shanghai, China; Lenovo PC HK Limited of Quarry Bay, Hong Kong; Lenovo Information Products Shenzhen Co. Ltd. of Shenzhen, China; Lenovo Mobile Communication of Wuhan, China; Lenovo Corporation of Wujiang, China; and Lenovo Centro Tecnologico S. de RL CV of Nuevo Leon, Mexico (collectively, “Lenovo”). Id. at 48264. The notice of investigation also named the Office of Unfair Import Investigations (“OUII”) as a party. Id.

On August 12, 2020, Google filed a motion to intervene in this investigation as to the '706 patent, asserting that it has an interest in infringement and invalidity issues regarding that patent. On August 24, 2020, Nokia, Lenovo, and OUII filed responses not opposing Google's intervention.

On September 4, 2020, the ALJ issued the subject ID granting the motion. The ID notes Commission Rule 210.19, which provides that “[a]ny person desiring to intervene in an investigation” may file a motion before the administrative law judge, who “may grant the motion to the extent and upon such terms as may be proper under the circumstances.” 19 CFR 210.19. The ID finds that no dispute exists that (1) “Google's motion to intervene was timely, having been filed two days after the institution of the investigation”; (2) “Google has an interest in infringement and invalidity issues regarding the '706 patent”; and (3) “Google's interests are not adequately protected by the other parties in this investigation.” ID at 5. While Google seeks intervention only as to the '706 patent, the ID finds that “the record does not support a limited intervention” and that “Google's intervention may be useful with respect to all the patents, not only the '706 patent.” Id. Thus, the ID adds Google to the investigation “as an intervenor without limitation.” Id. No one petitioned for review of the subject ID.

The Commission has determined not to review the subject ID. Google is hereby an intervenor.

The Commission vote for this determination took place on September 29, 2020.

The authority for the Commission's determination is contained in section 337 of the Tariff Act of 1930, as amended (19 U.S.C. 1337), and in Part 210 of the Commission's Rules of Practice and Procedure (19 CFR part 210).

By order of the Commission.
Issued: September 29, 2020.
Lisa Barton,
Secretary to the Commission.

[FR Doc. 2020-21904 Filed 10-2-20; 8:45 am]

BILLING CODE 7020-02-P